DEPARTMENT OF COMMERCE

National Oceanic and Atmospheric Administration

50 CFR Part 300

[Docket No. 140710571-4977-02]

RIN 0648-BE36

International Fisheries; Western and Central Pacific Fisheries for Highly Migratory Species; Restrictions on the Use of Fish Aggregating Devices in Purse Seine Fisheries for 2015; Correction

AGENCY: National Marine Fisheries Service (NMFS), National Oceanic and Atmospheric Administration (NOAA), Commerce.

ACTION: Final rule; correction.

SUMMARY: NMFS published in the Federal Register of December 2, 2014, with an effective date of January 1, 2015, a final rule to establish restrictions on the use of fish aggregating devices (FADs) by U.S. purse seine vessels in the western and central Pacific Ocean (“International Fisheries; Western and Central Pacific Fisheries for Highly Migratory Species; Restrictions on the Use of Fish Aggregating Devices in Purse Seine Fisheries for 2015”). The final rule also included a requirement for the owners and operators of such vessels to submit “daily FAD reports” to NMFS. As indicated in the December 2, 2014, final rule, some of the FAD restrictions are to go into effect only if NMFS publishes a notice in the Federal Register announcing that they are in effect. NMFS intended to make the requirement to submit daily FAD reports also contingent on issuance of a Federal Register notice, but inadvertently wrote the final rule such that the reporting requirement would go into effect on January 1, 2015, irrespective of issuance by NMFS of a Federal Register notice. This document corrects that error in the final rule by making the requirement to submit daily FAD reports contingent on NMFS issuing a Federal Register notice announcing that it is in effect.

DATES: Effective January 1, 2015.

FOR FURTHER INFORMATION CONTACT: Tom Graham, NMFS Pacific Islands Regional Office, 808-725-5032.

SUPPLEMENTARY INFORMATION: NMFS published in the Federal Register of December 2, 2014 (79 FR 71327), a final rule to establish restrictions on the use of fish aggregating devices by U.S. purse seine vessels in the western and central Pacific Ocean (WCPO) during 2015. Some of the FAD restrictions in the final rule, specifically the FAD prohibitions during January and February and the limit of 3,061 FAD sets with associated prohibitions, were made contingent on NMFS issuing a subsequent Federal Register notice announcing that those restrictions are in effect. NMFS would issue such a Federal Register notice only if it determined that the Commission for the Conservation and Management of Highly Migratory Fish Stocks in the Western and Central Pacific Ocean (Commission) adopted particular arrangements at its Eleventh Regular Session, which took place December 1-5, 2014. The Commission did not adopt such arrangements at that session.

The final rule also included a requirement for vessel owners and operators to submit “daily FAD reports” to NMFS. The reports would be used by NMFS to estimate and project the number of sets on FADs with respect to the limit of 3,061 FAD sets. NMFS intended the daily FAD reporting requirement to be effective only if the limit of 3,061 FAD sets were put in effect. However, NMFS inadvertently wrote the final rule such that the daily FAD report requirement would go into effect on January 1, 2015, irrespective of the Commission decision or a subsequent Federal Register notice. This document corrects that error in the final rule by making the requirement to submit daily FAD reports contingent on NMFS issuing a Federal Register notice announcing that the reporting requirement is in effect.

Classification

This final rule has been determined to be not significant for the purposes of Executive Order 12866.

NMFS has determined that good cause exists to waive public notice and comment under 5 U.S.C. 553(b)(B) because it would be unnecessary and contrary to the public interest. It is unnecessary and contrary to the public interest because delaying this rule would only serve to place an unwarranted burden on the regulated community. If this correction to the final rule is not effective by January 1, 2015, then owners and operators of U.S. purse seine vessels in the WCPO would be required to submit daily reports to NMFS that would not serve any useful purpose, which would be contrary to the public interest.

Further, NMFS has determined that good cause exists to waive the 30-day delay in effectiveness of this rule under 5 U.S.C. 553(d) because, as explained previously, this rule relieves a reporting requirement on the regulated community.

Because prior notice and opportunity for public comment for this correction to the final rule under 5 U.S.C. 553 have been waived, and are not required by any other law, the analytical requirements of the Regulatory Flexibility Act, 5 U.S.C. 601 et seq. are inapplicable.

Correction

Accordingly, the final rule, Federal Register Document Number 2014-28105, published on December 2, 2014, at 79 FR 71327, to be effective January 1, 2015, is corrected as follows:

On page 71330, in column 3, § 300.218(g) is correctly added to read as follows:

§ 300.218 Reporting and recordkeeping requirements.

* * * * *

(g) Daily FAD reports. If NMFS issues a notice in the Federal Register announcing that the requirement of this paragraph is in effect, the owner or operator of any fishing vessel of the United States equipped with purse seine gear must, within 24 hours of the end of each day that the vessel is at sea in the Convention Area, report to NMFS, in the format and manner directed by the Pacific Islands Regional Administrator, how many purse seine sets were made on FADs during that day.

Dated: December 16, 2014.
Samuel D. Rauch III,
Deputy Assistant Administrator for Regulatory Programs, National Marine Fisheries Service.

[FR Doc. 2014-30227 Filed 12-24-14; 8:45 am]

BILLING CODE 3510-22-P